FEDERAL COMMUNICATIONS COMMISSION

Notice of Public Information Collection(s) Being Reviewed by the Federal Communications Commission for Extension Under Delegated Authority, Comments Requested

April 14, 2000.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning: (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before June 19, 2000. If you anticipate that you will be submitting comments, but find it difficult to do so within the period of time allowed by this notice, you should advise the contact listed below as soon as possible.

ADDRESSES: Direct all comments to Les Smith, Federal Communications Commissions, Room 1 A-804, 445 Twelfth Street, SW, Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Approval Number: 3060-0768.

Title: 28 GHz Band Segmentation Plan.

Type of Review: Extension of a currently approved collection.

Form Number: Not applicable.

Respondents: Businesses or other for-profit entities; not for profit institutions.

Number of Respondents: 15 respondents submitting paperwork approximately 4 times per year.

Estimated Time Per Response: 1.5 hours.

Frequency of Response: On occasion.

Total Annual Burden: 90 hours.

Total Annual Costs: $18,000.

Needs and Uses: The various collections of information accounted for in OMB# 3060-0768 are contained in C.F.R. Parts 25 and 101 of the Commission's rules. The Commission uses the information in carrying out its duties as set forth in Sections 308 and 309 of the Communications Act of 1934, as amended. Specifically, the Commission and other applicants and/or licensees in the 28 GHz band use the information to determine the technical coordination of systems that are designed to share the same band segment in the 28 GHz band.

OMB Approval Number: 3060-0769.

Title: Aeronautical Services Transition Plan.

Type of Review: Extension of a currently approved collection.

Form Number: Not applicable.

Respondents: Businesses or other for-profit entities.

Number of Respondents: 6.

Estimated Time Per Response: 2 hours.

Frequency of Response: On occasion.

Total Annual Burden: 12 hours.

Total Annual Costs: $5,400.

Needs and Uses: The information is used by engineering staff at the Commission to determine whether transition arrangements impact reliability of aeronautical communications services.

OMB Number: 3060-0611.

Title: Section 74.783 Station Identification.

Form Number: None.

Type of Review: Revision of currently approved collection.

Respondents: Business or other for-profit, State, Local or Tribal Government

Number of Respondents: 200.

Estimated Time per Response: 0.166 hours.

Total Annual Burden: 33 hours.

Total Annual Costs: $0.

Needs and Uses: On December 8, 1998, the Commission adopted a Report and Order in MM Docket No. 98-98, in the matter of Amendment of Part 73 and Part 74 Relating to Call Sign Assignments for Broadcast Stations. With this Report and Order, the Commission modified its practices and procedures with regard to the assignment of call signs to radio and television broadcast stations. Existing procedures were replaced by an on-line system for the electronic preparation and submission of requests for the reservation and authorization of new and modified call signs. Access to the call sign system is made via the Internet.

Section 74.783(e) permits any low power television (LPTV) station to request a four-letter call sign after receiving its construction permit. All initial LPTV construction permits will continue to be issued with a five-character LPTV call sign. This Report and Order requires LPTV respondents to use the on-line electronic system. To enable these respondents to use this on-line system, the Commission eliminated the requirement that holders of LPTV construction permits submit with their call sign requests a certification that the station has been constructed, that physical construction is underway at the transmitter site, or that a firm equipment order has been placed. The on-line reservation and authorization system was approved by OMB under Control Number 3060-0188. All burden associated with call sign requests are included in Control Number 3060-0188.

Section 74.783(b) requires television translator stations, whose station identification is made by the television station whose signals are being rebroadcast by the translator, to furnish current information with regard to the translator's call letters and location, and the name, address and telephone number of the licensee to be contacted in the event of malfunction of the translator.

The furnishing of current information is used by the primary station licensee and/or FCC staff in field investigations to contact the translator licensee in the event of malfunction of the translator.

Federal Communications Commission.
Magalie Roman Salas,
Secretary.

[FR Doc. 00-9901 Filed 4-19-00; 8:45 am]

BILLING CODE 6712-01-P